DEPARTMENT OF THE INTERIOR

National Park Service

[NPS-WASO-NAGPRA-12390; PPWOCRADN0-PCU00RP14.R50000]

Notice of Inventory Completion: History Colorado, formerly Colorado Historical Society, Denver, CO

AGENCY: National Park Service, Interior.

ACTION: Notice.

SUMMARY: History Colorado, formerly Colorado Historical Society, has completed an inventory of human remains, in consultation with the appropriate Indian tribes, and has determined that there is no cultural affiliation between the human remains and any present-day Indian tribes. Representatives of any Indian tribe that believes itself to be culturally affiliated with the human remains may contact History Colorado. Disposition of the human remains to the Indian tribes stated below may occur if no additional requestors come forward.

DATES: Representatives of any Indian tribe that believes it has a cultural affiliation with the human remains should contact History Colorado at the address below by April 29, 2013.

ADDRESSES: Sheila Goff, History Colorado, 1200 Broadway, Denver, CO 80203, telephone (303) 866-4531, email Sheila.goff@state.co.us.

SUPPLEMENTARY INFORMATION: Notice is here given in accordance with the Native American Graves Protection and Repatriation Act (NAGPRA), 25 U.S.C. 3003, of the completion of an inventory of human remains under the control of History Colorado, Denver, CO. The human remains were removed from Suncor Energy USA Pipeline Company property, Adams County, CO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by History Colorado professional staff in consultation with representatives of the Arapaho Tribe of the Wind River Reservation, Wyoming; Cheyenne and Arapaho Tribes, Oklahoma (previously listed as the Cheyenne-Arapaho Tribes of Oklahoma); Comanche Nation, Oklahoma; Crow Tribe of Montana; Crow Creek Sioux Tribe of the Crow Creek Reservation, South Dakota; Jicarilla Apache Nation, New Mexico; Kiowa Indian Tribe of Oklahoma; Mescalero Apache Tribe of the Mescalero Reservation, New Mexico; Northern Cheyenne Tribe of the Northern Cheyenne Indian Reservation, Montana; Oglala Sioux Tribe (previously listed as the Oglala Sioux Tribe of the Pine Ridge Reservation, South Dakota); Ohkay Owingeh, New Mexico (previously listed as the Pueblo of San Juan); Pawnee Nation of Oklahoma; Pueblo of Cochiti, New Mexico; Pueblo of San Ildefonso, New Mexico; Pueblo of Santa Ana, New Mexico; Pueblo of Santa Clara, New Mexico; Shoshone Tribe of the Wind River Reservation, Wyoming; Southern Ute Indian Tribe of the Southern Ute Reservation, Colorado; Standing Rock Sioux Tribe of North & South Dakota; Three Affiliated Tribes of the Fort Berthold Reservation, North Dakota; Ute Mountain Tribe of the Ute Mountain Reservation, Colorado, New Mexico & Utah; Wichita and Affiliated Tribes (Wichita, Keechi, Waco & Tawakonie), Oklahoma; and Zuni Tribe of the Zuni Reservation, New Mexico. The Apache Tribe of Oklahoma; Fort Sill Apache Tribe of Oklahoma; and the Rosebud Sioux Tribe of the Rosebud Indian Reservation, South Dakota, were invited to consult but did not participate. Hereafter all tribes listed above are referred to as “The Consulted and Invited Tribes.”

History and description of the remains

In March 2012, human remains representing, at minimum, one individual were removed from Suncor Energy USA Pipeline Company property in Adams County, CO. The human remains were discovered while Suncor was excavating a trench as part of mitigation efforts concerning high levels of benzene in the soil. The Adams County Coroner initially believed this was a forensic case and removed the remains with the assistance of a Metro State College forensic anthropologist. The burial investigation and extensive osteological analysis determined that the remains were of a middle-aged male of Native American ancestry found in a secondary burial and of no forensic interest. The remains were then transferred to History Colorado, where they are referred to as Office of Archaeology and Historic Preservation No. 288. No known individuals were identified. No associated funerary objects are present.

At the time of the excavation and removal of these human remains, the land from which the remains and objects were removed was not the tribal land of any Indian tribe. In August 2012, History Colorado consulted with all Indian tribes who are recognized as aboriginal to the area from which these Native American human remains were removed. These tribes are the Arapaho Tribe of the Wind River Reservation, Wyoming; Cheyenne and Arapaho Tribes, Oklahoma (previously listed as the Cheyenne-Arapaho Tribes of Oklahoma); and the Northern Cheyenne Tribe of the Northern Cheyenne Indian Reservation, Montana. None of these Indian tribes agreed to accept control of the human remains. They requested in writing that this individual be dispostioned according to the Process for Consultation, Transfer and Reburial of Culturally Unidentifiable Native American Human Remains Originating From Inadvertent Discoveries on Colorado State and Private Lands (Process). Consultation with the additional tribes listed under Consultation in this notice was conducted October 2012 to January 2013 to determine disposition. Under the Process, the Southern Ute Indian Tribe of the Southern Ute Reservation, Colorado, and the Ute Mountain Tribe of the Ute Mountain Reservation, Colorado, New Mexico & Utah agreed to accept disposition of the human remains.

In 2006, History Colorado, in partnership with the Colorado Commission of Indian Affairs, Southern Ute Indian Tribe of the Southern Ute Reservation, Colorado, and the Ute Mountain Tribe of the Ute Mountain Reservation, Colorado, New Mexico & Utah, conducted tribal consultations among the tribes with ancestral ties to the State of Colorado to develop the process for disposition of culturally unidentifiable Native American human remains and associated funerary objects originating from inadvertent discoveries on Colorado State and private lands. As a result of the consultation, a process was developed, Process for Consultation, Transfer, and Reburial of Culturally Unidentifiable Native American Human Remains and Associated Funerary Objects Originating From Inadvertent Discoveries on Colorado State and Private Lands, (2008, unpublished, on file with the Colorado Office of Archaeology and Historic Preservation). The remains described above were recovered in the Great Plains Consultation Region, established by the Process, and tribes consulted are those who have expressed their wishes to be notified of discoveries in this region.

The Native American Graves Protection and Repatriation Review Committee (Review Committee) is responsible for recommending specific actions for disposition of culturally unidentifiable human remains. On November 3-4, 2006, the Process was presented to the Review Committee for consideration. A January 8, 2007, letter on behalf of the Review Committee from the Designated Federal Officer transmitted the provisional authorization to proceed with the Process upon receipt of formal responses from the Jicarilla Apache Nation, New Mexico, and the Kiowa Indian Tribe of Oklahoma, subject to forthcoming conditions imposed by the Secretary of the Interior. On May 15-16, 2008, the responses from the Jicarilla Apache Nation, New Mexico and the Kiowa Indian Tribe of Oklahoma were submitted to the Review Committee. On September 23, 2008, the Assistant Secretary for Fish and Wildlife and Parks, as the designee for the Secretary of the Interior, transmitted the authorization for the disposition of culturally unidentifiable human remains according to the Process and NAGPRA, pending publication of a Notice of Inventory Completion in the Federal Register. This notice fulfills that requirement.

Determinations made by History Colorado

Officials of History Colorado have determined that:

• Based on osteological analysis and burial context, the human remains are Native American.

• Pursuant to 25 U.S.C. 3001(9), the human remains described in this notice represent the physical remains of one individual of Native American ancestry.

• Pursuant to 25 U.S.C. 3001(2), a relationship of shared group identity cannot be reasonably traced between the Native American human remains and any present-day Indian tribe.

• Pursuant to 43 CFR 10.11(c)(2)(ii) and the Process, the disposition of the human remains may be to the Southern Ute Indian Tribe of the Southern Ute Reservation, Colorado, and the Ute Mountain Tribe of the Ute Mountain Reservation, Colorado, New Mexico & Utah.

Additional Requestors and Disposition

Representatives of any Indian tribe that believes itself to be culturally affiliated with the human remains or any other Indian tribe that believes it satisfies the criteria in 43 CFR 10.11(c)(1) should contact Sheila Goff, History Colorado, 1200 Broadway, Denver, CO 80203, telephone (303) 866-4531, email Sheila.goff@state.co.us, by April 29, 2013. Disposition of the human remains to the Southern Ute Indian Tribe of the Southern Ute Reservation, Colorado, and the Ute Mountain Tribe of the Ute Mountain Reservation, Colorado, New Mexico & Utah may proceed after that date if no additional requestors come forward.

History Colorado is responsible for notifying The Consulted and Invited Tribes that this notice has been published.

Dated: February 19, 2013.
Sherry Hutt,
Manager, National NAGPRA Program.

[FR Doc. 2013-07358 Filed 3-28-13; 8:45 am]

BILLING CODE 4312-50-P